DEPARTMENT OF THE INTERIOR

National Park Service

[NPS-WASO-NAGPRA-NPS0034118; PPWOCRADN0-PCU00RP14.R50000]

Notice of Inventory Completion: U.S. Department of Agriculture, Forest Service, Shoshone National Forest, Cody, WY, and Buffalo Bill Historical Center, Cody, WY; Correction

AGENCY: National Park Service, Interior.

ACTION: Notice; correction.

SUMMARY: The U.S. Department of Agriculture, Forest Service, Shoshone National Forest, has corrected an inventory of human remains and associated funerary objects published in a Notice of Inventory Completion in the Federal Register of February 22, 2006. This notice corrects the number of associated funerary objects. Lineal descendants or representatives of any Indian Tribe or Native Hawaiian organization not identified in this notice that wish to request transfer of control of these human remains and associated funerary objects should submit a written request to Shoshone National Forest. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Shoshone National Forest at the address in this notice by August 1, 2022.

FOR FURTHER INFORMATION CONTACT: Wade McMaster, Acting Forest Supervisor, Shoshone National Forest, 808 Meadow Lane Avenue, Cody, WY 82414, telephone (307) 578-5187, email wade.mcmaster@usda.gov.

SUPPLEMENTARY INFORMATION: Notice is here given in accordance with the Native American Graves Protection and Repatriation Act (NAGPRA), 25 U.S.C. 3003, of the correction of an inventory of human remains and associated funerary objects under the control of the U.S. Department of Agriculture, Forest Service, Shoshone National Forest, Cody, WY, and in the physical custody of the Buffalo Bill Historical Center, Cody, WY. The human remains and associated funerary objects were removed from the Mummy Cave site in Park County, WY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the description of the human remains and the number of associated funerary objects published in a Notice of Inventory Completion in the Federal Register (71 FR 9148, February 22, 2006). Following re-examination, the associated funerary objects now include all items removed from level 3/cultural level 36. Transfer of control of the items in this correction notice has not occurred.

Corrections

1. In the Federal Register of February 22, 2006, FR Doc #E6-2445, page 9148, column 2, paragraph 4, sentence 4, “The one associated funerary object is a mountain sheep hide that was used to wrap the individual,” is corrected by substituting the following sentence:

The 44 associated funerary objects are one lot of animal parts that include bone, hair, horn, antler, teeth, and hide; one lot of arrow shafts wrapped in sinew; one lot of grass bundles; two lots of burial matrix; one lot of burial stones; one lot of calcite crystals; one lot of charred wood; one lot of coiled basketry fragments; one coprolite containing cordage; one lot of cordage netting; one lot of feather and fibers; one lot of modified and unmodified feathers; one lot of fish parts; one lot of grass moccasin liners; one lot of knotted cordage; one lot of knotted fiber or netting; one lot of lithics; one lot of matted grass; one lot of moccasin fragments; one lot of modified animal hide with and without hair; one lot of modified bark; one lot of modified bone; one lot of modified plant fiber; one lot of modified wood; one lot of pigment contained in a bag; one lot of plant fiber; one lot of plant fiber cordage; one lot of reed fragments; one sheep skin robe; one roving; one lot of seeds; one lot of sewn animal hide with hair; one lot of shell; one lot of sinew; one lot of sticks and reeds with binding; one stone wrapped and tied with plant material; one lot of stones; one strung bow; one twisted wool cord; one lot of unmodified wood; one lot of worked animal horn; one lot of worked antler; and one piece of work fossilized wood.

2. In the Federal Register of February 22, 2006, FR Doc #E6-2445, page 9148, column 3, paragraph 1, sentence 2, “The human remains, representing an older Native American male, were recovered from an intentional stone-covered burial in level 3 of the cave,” is corrected by substituting the following sentence:

The human remains, representing a male aged 35-40 years, were recovered from an intentional burial in level 3/cultural level 36 of the cave.

In the Federal Register of February 22, 2006, FR Doc #E6-2445, page 9148, column 3, paragraph 2, sentence 2, “Officials of Shoshone National Forest also have determined that, pursuant to 25 U.S.C. 3001(3)(A), the one object described above is reasonably believed to have been placed with or near individual human remains at the time of death or later as part of the death rite or ceremony,” is corrected by substituting the following sentence:

Pursuant to 25 U.S.C. 3001(3)(A), the 44 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Wade McMaster, Acting Forest Supervisor, Shoshone National Forest, 808 Meadow Lane Avenue, Cody, WY 82414, telephone (307) 578-5187, email wade.mcmaster@usda.gov, by August 1, 2022. After that date, if no additional requestors have come forward, transfer of control of the human remains and associated funerary objects to the Eastern Shoshone Tribe of the Wind River Reservation, Wyoming (previously listed as Shoshone Tribe of the Wind River Reservation, Wyoming); and the Shoshone-Bannock Tribes of the Fort Hall Reservation may proceed.

The U.S. Department of Agriculture, Forest Service, Shoshone National Forest is responsible for notifying the Eastern Shoshone Tribe of the Wind River Reservation, Wyoming (previously listed as Shoshone Tribe of the Wind River Reservation, Wyoming) and the Shoshone-Bannock Tribes of the Fort Hall Reservation that this notice has been published.

Dated: June 22, 2022.
Melanie O'Brien,
Manager, National NAGPRA Program.

[FR Doc. 2022-14094 Filed 6-30-22; 8:45 am]

BILLING CODE 4312-52-P